DEPARTMENT OF HEALTH AND HUMAN SERVICES

National Institutes of Health

Proposed Collection; Comment Request; NIH Office of Intramural Training and Education Application

Summary

In compliance with the requirement of section 3506(c)(2)(A) of the Paperwork Reduction Act of 1995, for opportunity for public comment on proposed data collection projects, the Office of Intramural Training & Education/OIR/OD, the National Institutes of Health (NIH) will publish periodic summaries of proposed projects to be submitted to the Office of Management and Budget (OMB) for review and approval.

Proposed Collection

Title: NIH Office of Intramural Training & Education Application. Type of Information Collection Request: Revision. Form Number: 0925-0299. Expiration Date: September 30, 2012. Need and Use of Information Collection: The Office of Intramural Training & Education (OITE) administers a variety of programs and initiatives to recruit pre-college through post-doctoral educational level individuals into the National Institutes of Health Intramural Research Program (NIH-IRP) to facilitate develop into future biomedical scientists. The proposed information collection is necessary in order to determine the eligibility and quality of potential awardees for traineeships in these programs. The applications for admission consideration include key areas such as: Personal information, eligibility criteria, contact information, student identification number, training program selection, scientific discipline interests, educational history, standardized examination scores, reference information, resume components, employment history, employment interests, dissertation research details, letters of recommendation, financial aid history, sensitive data, future networking contact, travel information, as well as feedback questions about interviews and application submission experiences. Sensitive data collected on the applicants, race, gender, ethnicity and recruitment method, are made available only to OITE staff members or in aggregate form to select NIH offices and are not used by the admission committee for admission consideration; optional to submit.

Over the last several years the OITE has used three OMB Clearance Numbers for the collection of applications for the training programs. To improve announcement of all training programs and lessen the burden of applicants, the OITE proposes to merge the following:

• 0925-0299—NIH Intramural Research Training Award, Program Application.

• 0925-0438—Undergraduate Scholarship Program (UGSP).

• 0925-0501—Graduate Student Training Program Application.

Renewing 0925-0299 OMB Clearance Number with the new name “Office of Intramural Training & Education Application”.

Frequency of Response: On occasion. Affected Public: Individuals seeking intramural training opportunities and references for these individuals. Type of Respondents: students, post-baccalaureates, technicians, graduate students, and post-doctorates. There are no capital costs, operating costs, and/or maintenance costs to report.

The annual reporting burden is displayed in the following table:

Estimates of Hour Burden
Program | Estimated number of respondents | Estimated number of responses annually per respondent | Average burden hours per response | Estimated total annual burden hours
Summer Internship Program in Biomedical Research (SIP) | 8,500 | 1 | 0.75 | 6,375.0
Biomedical Engineering Summer Internship Program (BESIP) | 100 | 1 | 0.75 | 75.0
Post-baccalaureate Intramural Research Training Award | 2,300 | 1 | 0.75 | 1,725.0
NIH Academy | 550 | 1 | 0.75 | 412.5
Community College Summer Enrichment Program (CCSEP) | 125 | 1 | 0.75 | 93.8
Technical Intramural Research Training Award | 140 | 1 | 0.75 | 105.0
Graduate Partnerships Program (GPP) | 600 | 1 | 0.75 | 450.0
Post-Doctorate Fellowship Program | 2,050 | 1 | 0.75 | 1,537.5
National Graduate Student Research Festival (NGSRF) | 825 | 1 | 0.75 | 618.8
Undergraduate Scholarship Program (UGSP) | 300 | 1 | 0.75 | 225.0
Alumni Database | 1,900 | 1 | 0.75 | 1,425.0
Recommendations for All Programs | 35,705 | 1 | 0.25 | 8,926.3
Supplemental Documents for Application | 14,540 | 1 | 0.75 | 10,905.0
Feedback Questions | 53,095 | 1 | 0.25 | 13,273.8
Totals | 120,730 |  |  | 46,147.5

Request for Comments

Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Dr. Patricia Wagner, Director of Admissions & Registrar, Office of Intramural Training & Education, National Institutes of Health, 2 Center Drive, Building 2/Room 2E06, Bethesda, Maryland 20892-0234, or call 240-476-3619 or e-mail your request, including your address to: wagnerpa@od.nih.gov.

DATES: Comments Due Date: Comments regarding this information collection are best assured of having their full effect if received within 60 days of the date of this publication.

Date: July 15, 2010.
Michael M. Gottesman,
Deputy Director for Intramural Research, National Institutes of Health.

[FR Doc. 2010-17669 Filed 7-19-10; 8:45 am]

BILLING CODE 4140-01-P